DEPARTMENT OF HEALTH AND HUMAN SERVICES

National Institutes of Health

National Institute of General Medical Sciences; Amended Notice of Meeting

Notice is hereby given of a change in the meeting of the National Advisory General Medical Sciences Council, February 03, 2022, 09:30 a.m. to February 03, 2022, 04:30 p.m., National Institutes of Health, Natcher Building, 45 Center Drive, Bethesda, MD, 20892 which was published in the Federal Register on November 12, 2021, FR Doc 2020-28902, 86 FR 62835.

The meeting notice is amended to change the Contact Person title and Federal Domestic Assistance code from: Erica L. Brown, Ph.D. Associate Director for Extramural Activities; (Catalogue of Federal Domestic Assistance Program Nos. 93.375, Minority Biomedical Research Support; 93.821, Cell Biology and Biophysics Research; 93.859, Pharmacology, Physiology, and Biological Chemistry Research; 93.862, Genetics and Developmental Biology Research; 93.88, Minority Access to Research Careers; 93.96, Special Minority Initiatives; 93.859, Biomedical Research and Research Training, National Institutes of Health, HHS) to Erica L. Brown, Ph.D. Director, Division of Extramural Activities, to (Catalogue of Federal Domestic Assistance Program Nos. 93.859, Biomedical Research and Research Training, National Institutes of Health, HHS). The meeting is partially Closed to the public.

Dated: December 21, 2021.
Miguelina Perez,
Program Analyst, Office of Federal Advisory Committee Policy.

[FR Doc. 2021-28103 Filed 12-27-21; 8:45 am]

BILLING CODE 4140-01-P